SMALL BUSINESS ADMINISTRATION

[Disaster Declaration #14869 and #14870]

Wisconsin Disaster #WI-00053

AGENCY: U.S. Small Business Administration.

ACTION: Notice

SUMMARY: This is a notice of an Administrative declaration of a disaster for the State of Wisconsin dated 09/21/2016.

Incident: Severe Storms and Flash Flooding.

Incident Period: 08/11/2016.

DATES: Effective Date: 09/21/2016

Physical Loan Application Deadline Date: 11/21/2016.

Economic Injury (EIDL) Loan Application Deadline Date: 06/21/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Buffalo

Contiguous Counties:

Wisconsin: Eau Claire, Pepin, Trempealeau.

Minnesota: Wabasha, Winona.

The Interest Rates are:

| Percent
For Physical Damage:
Homeowners With Credit Available Elsewhere | 3.125
Homeowners Without Credit Available Elsewhere | 1.563
Businesses With Credit Available Elsewhere | 6.250
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 14869 6 and for economic injury is 14870 0.

The States which received an EIDL Declaration # are Wisconsin, Minnesota.

(Catalog of Federal Domestic Assistance Number 59008).

Dated: September 21, 2016.
Maria Contreras-Sweet,
Administrator.

[FR Doc. 2016-23763 Filed 9-30-16; 8:45 am]

BILLING CODE 8025-01-P